DEPARTMENT OF TRANSPORTATION

Federal Railroad Administration

[Docket No. FRA 2009-0001-N-14]

Agency Information Collection Activities; Comment Request

AGENCY: Federal Railroad Administration, DOT.

ACTION: Notice.

SUMMARY: In accordance with the Paperwork Reduction Act of 1995 and its implementing regulations, the Federal Railroad Administration (FRA) hereby announces that it is seeking re-approval of the following information collection activities that were previously approved by OMB under Emergency Clearance Procedures. Before submitting these information collection requirements for clearance by the Office of Management and Budget (OMB), FRA is soliciting public comment on specific aspects of the activities identified below.

DATES: Comments must be received no later than August 25, 2009.

ADDRESSES: Submit written comments on any or all of the following proposed activities by mail to either: Ms. Wynne Davis, Office of Railroad Development, RDV-3, Federal Railroad Administration, 1200 New Jersey Ave., SE., Mail Stop 17, Washington, DC 20590, or Ms. Nakia Jackson, Office of Information Technology, RAD-20, Federal Railroad Administration, 1200 New Jersey Ave., SE., Mail Stop 35, Washington, DC 20590. Commenters requesting FRA to acknowledge receipt of their respective comments must include a self-addressed stamped postcard stating, “Comments on OMB control number 2130-0580.” Alternatively, comments may be transmitted via facsimile to (202) 493-6330 or (202) 493-6497, or via e-mail to Ms. Davis at wynne.davis@dot.gov, or to Ms. Jackson at nakia.jackson@dot.gov. Please refer to the assigned OMB control number and the title of the information collection in any correspondence submitted. FRA will summarize comments received in response to this notice in a subsequent notice and include them in its information collection submission to OMB for approval.

FOR FURTHER INFORMATION CONTACT: Ms. Wynne Davis, Office of Railroad Development, RDV-3, Federal Railroad Administration, 1200 New Jersey Ave., SE., Mail Stop 17, Washington, DC 20590 (telephone: (202) 493-6441) or Ms. Nakia Jackson, Office of Information Technology, RAD-20, Federal Railroad Administration, 1200 New Jersey Ave., SE., Mail Stop 35, Washington, DC 20590 (telephone: (202) 493-6073). (These telephone numbers are not toll-free.)

SUPPLEMENTARY INFORMATION: The Paperwork Reduction Act of 1995 (PRA), Public Law 104-13, § 2, 109 Stat. 163 (1995) (codified as revised at 44 U.S.C. 3501-3520), and its implementing regulations, 5 CFR Part 1320, require Federal agencies to provide 60-days notice to the public for comment on information collection activities before seeking approval of such activities by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the information collection activities that FRA will submit for renewed clearance by OMB as required under the PRA:

Title: Notice of Funding Availability and Solicitation of Applications for Grants under the Railroad Rehabilitation and Repair Grant Program.

OMB Control Number: 2130-0580.

Abstract: On September 30, 2008, President Bush signed Public Law 110-329, The Consolidated Security, Disaster Assistance, and Continuing Appropriations Act, 2009. As part of this Act, Congress provided $20 million in disaster relief funds to FRA to award to States in one or more grants for eligible projects related to repair and rehabilitation of Class II and Class III railroad infrastructure damaged by hurricanes, floods, and other natural disasters in counties for which the President declared a major disaster under title IV of the Robert T. Stafford Disaster relief and Emergency Assistance Act of 1974. These funds are available for rehabilitation and repairs of railroad right-of-way, bridges, signals, and other infrastructure which are part of the general railroad system of transportation and primarily used by railroads to move freight traffic. The Secretary may retain up to one-half of one (1) percent of these funds for the oversight of the design and implementation of projects funded by grants under this Program. Funds provided under this grant program may constitute no more than 80 percent of the total cost of a selected project, with the remaining cost funded from other sources. The funding provided under these grants will be made available to grantees on a reimbursement basis. FRA anticipates awarding grants to multiple eligible participants. FRA may choose to award a grant or grants within the available funds in any amount. Funding made available through grants provided under this program, together with funding from other sources that is committed by a grantee as part of a grant agreement, must be sufficient to complete the funded project and achieve the anticipated rehabilitation and repairs to Class II and Class IIII railroads. New applications will be accepted after publication of a future Federal Register Notice that will be published sometime this fall.

Form Number(s): SF-424.

Other Instruments: Information Published with the Notice of Funds Availability (NOFA) to be published in Federal Register in Fall of 2009.

Affected Public: 50 States/Local governments.

Respondent Universe: 32 States/Local governments.

Frequency of Submission: On occasion.

Reporting Burden
Grant program | Respondent universe | Total annual responses | Average time per response | Total annual burden hours
— Application Process | 32 States/Local govt | 10 grant applications | 315 hours | 3,150
—Meeting requests with FRA Associate Administrator | 32 States/Local govt | 2 requests/letters | 30 minutes | 1
—Face to Face Meetings with Associate Admin | 32 States/Local govt | 2 project meetings | 2 hours | 4
—Revisions to Grant Applications | 32 States/Local govt | 2 grant revisions | 40 hours | 80
—Environmental Assessments | 32 States/Local govt | 10 environmental documents | 80 hours | 800
—Close-Out Procedures | 32 States/Local govt | 10 sets of Close-out documents | 4 hours | 40
—Project Reports | 32 States/Local govt | 10 reports | 80 hours | 800

Total Responses: 46.

Estimated Total Annual Burden: 4,875 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on June 22, 2009.
Kimberly Orben,
Director, Office of Financial Management, Federal Railroad Administration.

[FR Doc. E9-15027 Filed 6-25-09; 8:45 am]

BILLING CODE 4910-06-P